DEPARTMENT OF HEALTH AND HUMAN SERVICES

National Institutes of Health

Center for Scientific Review; Amended Notice of Meeting

Notice is hereby given of a change in the meeting of the Center for Scientific Review Special Emphasis Panel, October 03, 2014, 11:30 a.m. to October 03, 2014, 06:00 p.m., Torrance Marriott South Bay, 3635 Fashion Way, Torrance, CA, 90503 which was published in the Federal Register on September 19, 2014, 79 FR 56382.

The meeting will start at 7:00 a.m. and end at 7:30 a.m. The meeting date and location remain the same. The meeting is closed to the public.

Dated: September 26, 2014.
Anna Snouffer,
Deputy Director, Office of Federal Advisory Committee Policy.

[FR Doc. 2014-23332 Filed 9-30-14; 8:45 am]

BILLING CODE 4140-01-P